DEPARTMENT OF THE INTERIOR

National Park Service

[2253-665]

Notice of Inventory Completion: Thomas Burke Memorial Washington State Museum, University of Washington, Seattle, WA

AGENCY: National Park Service, Interior.

ACTION: Notice.

SUMMARY: The Thomas Burke Memorial Washington State Museum (Burke Museum), has completed an inventory of human remains, in consultation with the appropriate Indian Tribes, and has determined that there is a cultural affiliation between the human remains and present-day Indian Tribes. Representatives of any Indian Tribe that believes itself to be culturally affiliated with the human remains may contact the Burke Museum. Repatriation of the human remains to the Indian Tribes stated below may occur if no additional claimants come forward.

DATES: Representatives of any Indian Tribe that believes it has a cultural affiliation with the human remains should contact the Burke Museum at the address below by October 19, 2011.

ADDRESSES: Peter Lape, Burke Museum, University of Washington, Box 353010, Seattle, WA 98195-3010, telephone (206) 685-3849.

SUPPLEMENTARY INFORMATION: Notice is here given in accordance with the Native American Graves Protection and Repatriation Act (NAGPRA), 25 U.S.C. 3003, of the completion of an inventory of human remains in the possession of the Burke Museum, University of Washington, Seattle, WA. The human remains were removed from Kittitas County, WA.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Burke Museum professional staff in consultation with representatives of the Confederated Tribes of the Colville Reservation, Washington; Confederated Tribes of the Umatilla Indian Reservation, Oregon; Confederated Tribes of the Warm Springs Reservation of Oregon; Confederated Tribes and Bands of the Yakama Nation, Washington; and the Nez Perce Tribe, Idaho (hereinafter “The Tribes”). The Burke Museum also consulted with the Wanapum Band, a non-Federally recognized Indian group (hereinafter “The Indian Group”).

History and Description of the Remains

In 1953-1954, human remains and funerary objects were removed from the Cedar Cave Site (45-KT-20), in Kittitas County, WA, during a University of Washington Field Expedition led by Dr. Earl Swanson, Jr. The human remains and funerary objects were transferred from the University of Washington Department of Anthropology and accessioned by the Burke Museum in 1966 (Burke Accn. #1966-95). In 1974, the Burke Museum legally transferred portions of the human remains to Central Washington University. In 2007, a Notice of Inventory Completion (NIC) describing 4 individuals and 42 associated funerary objects removed from the Cedar Cave site was published in the Federal Register [72 FR 52391-52392, September 13, 2007]. The Burke Museum and Central Washington University have jointly repatriated these human remains and funerary objects from the Cedar Cave site described in the NIC. In 2009, during a collection cataloging and rehousing project, the Burke Museum located one human tooth, representing an additional individual, which had also been removed from the Cedar Cave Site. No known individual was identified. There are no associated funerary objects for this individual.

Early and late published ethnographic documentation indicates that the Cedar Cave Site is in the aboriginal territory of the Moses-Columbia or Sinkiuse, and the Yakima (Daugherty 1973, Miller 1998, Mooney 1896, Ray 1936, Spier 1936) whose descendants are represented today by the Confederated Tribes of the Colville Reservation, Washington, and the Confederated Tribes and Bands of the Yakama Nation, Washington. Furthermore, information provided during consultation indicates that the aboriginal ancestors occupying this area were highly mobile and traveled the landscape for gathering resources as well as trade. Descendants of these Plateau communities are now widely dispersed and enrolled in the two Tribes mentioned above, as well as the Nez Perce Tribe, Idaho; Confederated Tribes of the Umatilla Indian Reservation, Oregon; Confederated Tribes of the Warm Springs Reservation of Oregon; and the Wanapum Band, a non-Federally recognized Indian group.

Determinations Made by the Burke Museum

Officials of the Burke Museum have determined that:

• Pursuant to 25 U.S.C. 3001(9), the human remains described in this notice represent the physical remains of one individual of Native American ancestry.

• Pursuant to 25 U.S.C. 3001(2), there is a relationship of shared group identity that can be reasonably traced between the Native American human remains and The Tribes and The Indian Group.

Additional Requestors and Disposition

Representatives of any Indian Tribe that believes itself to be culturally affiliated with the human remains should contact Peter Lape, Burke Museum, University of Washington, Box 35101, Seattle, WA 98195, telephone (206) 685-3849, before October 19, 2011. Repatriation of the human remains to The Tribes and The Indian Group may proceed after that date if no additional claimants come forward.

The Burke Museum is responsible for notifying The Tribes and The Indian group that this notice has been published.

Dated: September 13, 2011.
Sherry Hutt,
Manager, National NAGPRA Program.

[FR Doc. 2011-23902 Filed 9-16-11; 8:45 am]

BILLING CODE 4312-50-P